ENVIRONMENTAL PROTECTION AGENCY

40 CFR Part 63

[EPA-HQ-OAR-2002-0037; FRL-9921-80-OAR]

RIN 2060-AS45

National Emission Standards for Hazardous Air Pollutants for Polyvinyl Chloride and Copolymers Production Area Sources Wastewater Limit Withdrawal

AGENCY: Environmental Protection Agency.

ACTION: Direct final rule.

SUMMARY: The Environmental Protection Agency (EPA) is taking direct final action to amend the National Emission Standards for Hazardous Air Pollutants for Polyvinyl Chloride and Copolymers Production Area Sources. This direct final rule withdraws the total non-vinyl chloride organic hazardous air pollutant (TOHAP) process wastewater emission standards for new and existing polyvinyl chloride and copolymers (PVC) area sources.

DATES: This rule is effective on March 30, 2015 without further notice, unless the EPA receives adverse comment by March 13, 2015. If the EPA receives adverse comment, we will publish a timely withdrawal in the Federal Register informing the public that the amendments in the final rule will not take effect.

ADDRESSES: Comments. Submit your comments, identified by Docket ID Number EPA-HQ-OAR-2002-0037, by one of the following methods:

• Federal eRulemaking Portal: http://www.regulations.gov: Follow the on-line instructions for submitting comments.

• Email: a-and-r-docket@epa.gov. Attention Docket ID Number EPA-HQ-OAR-2002-0037.

• Fax: (202) 566-9744. Attention Docket ID Number EPA-HQ-OAR-2002-0037.

• Mail: U.S. Environmental Protection Agency, EPA Docket Center, Mail Code: 28221T, Attention Docket ID Number EPA-HQ-OAR-2002-0037, 1200 Pennsylvania Ave. NW., Washington, DC 20460.

• Hand Delivery: U.S. Environmental Protection Agency, EPA Docket Center, Room 3334, EPA WJC West Building, 1301 Constitution Ave. NW., Washington, DC 20004. Attention Docket ID Number EPA-HQ-OAR-2002-0037. Such deliveries are only accepted during the Docket's normal hours of operation, and special arrangements should be made for deliveries of boxed information.

Instructions. Direct your comments to Docket ID Number EPA-HQ-OAR-2002-0037. The EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses. For additional information about the EPA's public docket, visit the EPA Docket Center homepage at: http://www.epa.gov/dockets.

We request that you also send a separate copy of each comment to the contact person listed below (see FOR FURTHER INFORMATION CONTACT).

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, EPA/DC, EPA WJC West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: Ms. Jodi Howard, Sector Policies and Programs Division (E143-01), Office of Air Quality Planning and Standards, U.S. Environmental Protection Agency, Research Triangle Park, NC 27711; telephone number: (919) 541-4607; fax number: (919) 541-0246; and email address: howard.jodi@epa.gov.

SUPPLEMENTARY INFORMATION: Organization of This Document. The information in this preamble is organized as follows:

I. Why is the EPA issuing a direct final rule?

II. Does this direct final rule apply to me?

III. What should I consider as I prepare my comments for the EPA?

IV. What are the amendments made by this direct final rule?

V. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination with Indian Tribal Governments

G. Executive Order 13045: Protection of Children from Environmental Health Risks and Safety Risks

H. Executive Order 13211: Actions Concerning Regulations that Significantly Affect Energy Supply, Distribution or Use

I. National Technology Transfer and Advancement Act

J. Executive Order 12898: Federal Actions to Address Environmental Justice in Minority Populations and Low-Income Populations

K. Congressional Review Act (CRA)

I. Why is the EPA issuing a direct final rule?

The EPA is publishing this direct final rule without a prior proposed rule because we view this as a noncontroversial action and anticipate no adverse comment. However, in the “Proposed Rules” section of this Federal Register, we are publishing a separate document that will serve as the proposed rule to the National Emission Standards for Hazardous Air Pollutants for Polyvinyl Chloride and Copolymers Production Area Sources Wastewater Limit Withdrawal, if adverse comments are received on this direct final rule. We will not institute a second comment period on this action. Any parties interested in commenting must do so at this time. For further information about commenting on this rule, see the ADDRESSES section of this document.

If the EPA receives adverse comments, we will publish a timely withdrawal in the Federal Register informing the public that some or all of this direct final rule will not take effect. We would address all public comments in any subsequent final rule based on the proposed rule.

II. Does this direct final rule apply to me?

Categories and entities potentially regulated by this direct final rule include:

Category | NAICS code ¹ | Examples of regulated entities
Polyvinyl chloride resins manufacturing | 325211 | Facilities that polymerize vinyl chloride monomer to produce polyvinyl chloride and/or copolymers products.
¹ North American Industry Classification System.

This table is not intended to be exhaustive, but rather provides a guide for readers regarding entities likely to be regulated by this direct final rule. To determine whether your facility would be regulated by this direct final rule, you should examine the applicability criteria in 40 CFR 63.11140. If you have any questions regarding the applicability of this action to a particular entity, consult either the air permitting authority for the entity or your EPA regional representative as listed in 40 CFR 63.13.

III. What should I consider as I prepare my comments for the EPA?

Submitting CBI. Do not submit information containing CBI to the EPA through http://www.regulations.gov or email. Clearly mark the part or all of the information that you claim to be CBI. For CBI information on a disk or CD-ROM that you mail to the EPA, mark the outside of the disk or CD-ROM as CBI and then identify electronically within the disk or CD-ROM the specific information that is claimed as CBI. In addition to one complete version of the comments that includes information claimed as CBI, you must submit a copy of the comments that does not contain the information claimed as CBI for inclusion in the public docket. If you submit a CD-ROM or disk that does not contain CBI, mark the outside of the disk or CD-ROM clearly that it does not contain CBI. Information not marked as CBI will be included in the public docket and the EPA's electronic public docket without prior notice. Information marked as CBI will not be disclosed except in accordance with procedures set forth in 40 CFR part 2. Send or deliver information identified as CBI only to the following address: OAQPS Document Control Officer (C404-02), OAQPS, U.S. Environmental Protection Agency, Research Triangle Park, North Carolina 27711, and Attention Docket ID Number EPA-HQ-OAR-2002-0037.

IV. What are the amendments made by this direct final rule?

This direct final rule withdraws the PVC area source process wastewater emission standards for TOHAP for new and existing sources in Tables 1 and 2 of 40 CFR part 63, subpart DDDDDD. This rule makes no other changes to Tables 1 and 2, or any other aspect of the PVC rule. 77 FR 22848 (April 17, 2012). The existing rule limits area source process wastewater TOHAP emissions for new and existing sources to 0.018 parts per million by weight for all resin types.

Subsequent to the April 14, 2012, promulgation of the national emission standards for hazardous air pollutants (NESHAP) for PVC Area Sources, PVC industry stakeholders informed the EPA that data from a groundwater remediation stripper that is not part of the PVC Production source category had mistakenly been submitted to the EPA as PVC process wastewater data in response to the EPA's 2009 Clean Air Act (CAA) section 114 survey. Those wastewater data were used to set the new and existing area source TOHAP process wastewater emission standards. The PVC industry stakeholders requested that the PVC area source process wastewater TOHAP emission standards be withdrawn from the PVC Area Source NESHAP since they are not based on data from the PVC Production source category.

The EPA agrees and is taking action to withdraw the area source process wastewater TOHAP emission standards. Since promulgation of the April 2012 PVC Area Source NESHAP, the EPA also has requested process wastewater data in CAA section 114 surveys from companies with PVC area sources and is presently developing a proposed rule in its reconsideration of certain PVC area source NESHAP, including the process wastewater TOHAP emission standards.

Comments on this direct final rule are limited to issues directly associated with the withdrawal of the PVC Area Source NESHAP process wastewater emission standards for TOHAP in Tables 1 and 2 of 40 CFR part 63, subpart DDDDDD. Any other issues raised in comments are outside the scope of this rulemaking.

V. Statutory and Executive Order Reviews

Additional information about these statutes and Executive Orders can be found at http://www2.epa.gov/laws-regulations/laws-and-executive orders.

A. Executive Order 12866: Regulatory Planning and Review and Executive Order 13563: Improving Regulation and Regulatory Review

This action is not a significant regulatory action and was, therefore, not submitted to the Office of Management and Budget (OMB) for review.

B. Paperwork Reduction Act (PRA)

This action does not impose any new information collection burden under the PRA. OMB has previously approved the information collection activities contained in the existing regulation (40 CFR part 63, subpart DDDDDD) and has assigned OMB control number 2060-0684. This action does not change the information collection requirements. The OMB control numbers for the EPA's regulations are listed in 40 CFR part 9.

C. Regulatory Flexibility Act (RFA)

I certify that this action will not have a significant economic impact on a substantial number of small entities under the RFA. This action will not impose any requirements on small entities. To the EPA's knowledge, there are no small entities subject to the final rule.

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications, as specified in Executive Order 13175. The final amendments impose no requirements on tribal governments. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk. The EPA is developing proposed area source process wastewater standards in a reconsideration proceeding.

H. Executive Order 13211: Actions Concerning Regulations That Significantly Affect Energy Supply, Distribution or Use

This action is not subject to Executive Order 13211 because it is not a significant regulatory action under Executive Order 12866.

I. National Technology Transfer and Advancement Act

This action does not involve any new technical standards.

J. Executive Order 12898: Federal Actions to Address Environmental Justice in Minority Populations and Low-Income Populations

The EPA believes the human health or environmental risk addressed by this action will not have potential disproportionately high and adverse human health or environmental effects on minority, low-income or indigenous populations. An evaluation was not needed for this action.

K. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedure, Air pollution control, Intergovernmental relations, Reporting and recordkeeping requirements.

Dated: January 23, 2015.
Gina McCarthy,
Administrator.

For the reasons stated in the preamble, title 40, chapter I, of the Code of Federal Regulations is amended as follows:

PART 63—NATIONAL EMISSIONS STANDARDS FOR HAZARDOUS AIR POLLUTANTS FOR SOURCE CATEGORIES

1. The authority citation for part 63 continues to read as follows:

Authority: 42 U.S.C. 7401, et seq.

Subpart DDDDDD—National Emission Standards for Hazardous Air Pollutants for Polyvinyl Chloride and Copolymer Production Area Sources

2. Table 1 to Subpart DDDDDD of Part 63 is revised to read as follows:

Table 1 to Subpart DDDDDD of Part 63—Emission Limits and Standards for Existing Affected Sources
For this type of emission point . . . | And for this air pollutant . . . | And for an affected source producing this type of PVC resin . . . | You must meet this emission limit . . .
PVC-only process vents ᵃ | Vinyl chloride | All resin types | 5.3 parts per million by volume (ppmv).
| Total hydrocarbons | All resin types | 46 ppmv measured as propane.
| Total organic HAP ᵇ | All resin types | 140 ppmv.
| Dioxins/furans (toxic equivalency basis) | All resin types | 0.13 nanograms per dry standard cubic meter (ng/dscm).
PVC-combined process vents ᵃ | Vinyl chloride | All resin types | 0.56 ppmv.
| Total hydrocarbons | All resin types | 2.3 ppmv measured as propane.
| Total organic HAP ᵇ | All resin types | 29 ppmv.
| Dioxins/furans (toxic equivalency basis) | All resin types | 0.076 ng/dscm.
Stripped resin | Vinyl chloride | Bulk resin | 7.1 parts per million by weight (ppmw).
|  | Dispersion resin | 1,500 ppmw.
|  | Suspension resin | 36 ppmw.
|  | Suspension blending resin | 140 ppmw.
|  | Copolymer resin | 790 ppmw.
| Total non-vinyl chloride organic HAP | Bulk resin | 170 ppmw.
|  | Dispersion resin | 320 ppmw.
|  | Suspension resin | 36 ppmw.
|  | Suspension blending resin | 500 ppmw.
|  | Copolymer resin | 1,900 ppmw.
Process Wastewater | Vinyl chloride | All resin types | 2.1 ppmw.
ᵃ Emission limits at 3-percent oxygen, dry basis.
ᵇ Affected sources have the option to comply with either the total hydrocarbon limit or the total organic HAP limit.

3. Table 2 to Subpart DDDDDD of Part 63 is revised to read as follows:

Table 2—to Subpart DDDDDD of Part 63—Emission Limits and Standards for New Affected Sources
For this type of emission point . . . | And for this air pollutant . . . | And for an affected source producing this type of PVC resin . . . | You must meet this emission limit . . .
PVC-only process vents ᵃ | Vinyl chloride | All resin types | 5.3 parts per million by volume (ppmv).
| Total hydrocarbons | All resin types | 46 ppmv measured as propane.
| Total organic HAP ᵇ | All resin types | 140 ppmv.
| Dioxins/furans (toxic equivalency basis) | All resin types | 0.13 nanograms per dry standard cubic meter (ng/dscm).
PVC-combined process vents ᵃ | Vinyl chloride | All resin types | 0.56 ppmv.
| Total hydrocarbons | All resin types | 2.3 ppmv measured as propane.
| Total organic HAP ᵇ | All resin types | 29 ppmv.
| Dioxins/furans (toxic equivalency basis) | All resin types | 0.076 ng/dscm.
Stripped resin | Vinyl chloride | Bulk resin | 7.1 parts per million by weight (ppmw).
|  | Dispersion resin | 1,500 ppmw.
|  | Suspension resin | 36 ppmw.
|  | Suspension blending resin | 140 ppmw.
|  | Copolymer resin | 790 ppmw.
| Total non-vinyl chloride organic HAP | Bulk resin | 170 ppmw.
|  | Dispersion resin | 320 ppmw.
|  | Suspension resin | 36 ppmw.
|  | Suspension blending resin | 500 ppmw.
|  | Copolymer resin | 1,900 ppmw.
Process Wastewater | Vinyl chloride | All resin types | 2.1 ppmw.
ᵃ Emission limits at 3 percent oxygen, dry basis.
ᵇ Affected sources have the option to comply with either the total hydrocarbon limit or the total organic HAP limit.

[FR Doc. 2015-01922 Filed 2-3-15; 8:45 am]

BILLING CODE 6560-50-P